DEPARTMENT OF THE INTERIOR

National Park Service

[NPS-WASO-NAGPRA-21728; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate federally recognized Indian tribes, and has determined that a cultural affiliation between the human remains and associated funerary objects and any present-day federally recognized Indian tribes cannot be reasonably traced. Representatives of any federally recognized Indian tribe not identified in this notice that wish to request transfer of control of these human remains and associated funerary objects should submit a written request to TVA. If no additional requestors come forward, transfer of control of the human remains and associated funerary objects to the federally recognized Indian tribe stated in this notice may proceed.

DATES: Representatives of any federally recognized Indian tribe not identified in this notice that wish to request transfer of control of these human remains and associated funerary objects should submit a written request with information in support of the request to TVA at the address in this notice by October 3, 2016.

ADDRESSES: Dr. Thomas O. Maher, TVA, 400 West Summit Hill Drive, WT11D, Knoxville, TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of TVA. The human remains and associated funerary objects were removed from sites in Lauderdale County, AL.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with the University of Alabama and representatives of the Alabama-Coushatta Tribe of Texas (previously listed as the Alabama-Coushatta Tribes of Texas); Alabama-Quassarte Tribal Town; Cherokee Nation; Coushatta Tribe of Louisiana; Eastern Band of Cherokee Indians; Eastern Shawnee Tribe of Oklahoma; Poarch Band of Creeks (previously listed as the Poarch Band of Creek Indians of Alabama); The Chickasaw Nation; The Choctaw Nation of Oklahoma; The Muscogee (Creek) Nation; Thlopthlocco Tribal Town; and the United Keetoowah Band of Cherokee Indians in Oklahoma.

History and Description of the Remains

The sites listed in this notice were excavated as part of TVA's Pickwick Reservoir project by the Alabama Museum of Natural History (AMNH) at the University of Alabama, using labor and funds provided by the Works Progress Administration. Details regarding these excavations and sites may be found in a report, An Archaeological Survey of Pickwick Basin in the Adjacent Portions of the States of Alabama, Mississippi, and Tennessee, by William S. Webb and David L. DeJarnette. The human remains and associated funerary objects listed in this notice have been in the physical custody of the AMNH at the University of Alabama since excavation but are under the control of TVA.

In February 1937, human remains representing, at minimum, 24 individuals were removed from the Smithsonia Landing site, 1LU5, in Lauderdale County, AL. Excavation commenced after TVA acquired the land encompassing site 1LU5 on May 4, 1936. This shell midden site had been disturbed by a historic riverboat landing and associated buildings. This disturbance and rising reservoir water levels led to limited excavations revealing a Late Archaic (4000-1000 B.C.) occupation. The human remains include adults, juveniles, and infants of both sexes. No known individuals were identified. There are 19 associated funerary objects including 2 stone adzes, 1 chert biface, 2 bone awls, 2 Little Bear Creek projectile points, 3 fresh water pearl beads, and 9 shell beads.

From August 1937 to April 1938, human remains representing, at minimum, 8 individuals were removed from 1LU21, in Lauderdale County, AL. Excavation commenced after TVA acquired the land encompassing this site on February 19, 1937. Excavations focused on the earthen mound, constructed in four stages and supported at least four superimposed structures and two peripheral single post structures. The primary occupation of this mound was during the Kogers Island phase (A.D. 1200-1500) of the Mississippian period. The human remains represent infants, adolescents, and adults. No known individuals were identified. The 179 associated funerary objects include 1 Bell Plain bottle; 1 Bell Plain double jar; 1 celt; 1 copper gorget fragment; 9 copper ear spool fragments; 2 copper covered wood bead fragments; 1 hooded owl effigy bottle; 1 Mississippi Plain bowl; 14 Mississippi Plain double jar fragments; 1 Mississippi Plain jar; 42 Mississippi Plain jar fragments; 27 Mississippi Plain sherds; 1 Mississippi Plain red-filmed rim; 1 Moundville Engraved bottle; 2 shell gorget fragments; 73 shell beads; and 1 shell-tempered incised and noded composite jar/bowl.

From October 1937 to December 1938, human remains representing, at minimum, 159 individuals were removed from site 1LU92 in Lauderdale County, AL. Excavation commenced after TVA purchased this land on November 27, 1935. Site 1LU92 was composed of both a village and a cemetery and excavations focused on the cemetery. There was no clear stratigraphy at the site. The excavators believed the village midden was created by an earlier occupation than the cemetery. The cemetery occupation is attributed to the Kogers Island phase (A.D. 1200-1500) of the Mississippian period. The human remains include adults, juveniles, children, and infants of both sexes. No known individuals were identified. The 3,654 associated funerary objects include 39 antler tip projectile points; 1 antler tool; 1 Barton Incised, var. unspecified jar; 4 Baytown Plain sherds; 20 bear tooth beads; 1 beaver incisor; 119 Bell Plain sherds; 4 Bell Plain bottles; 3 Bell Plain bowl sherds; 2 Bell Plain bowls; 2 Bell plain Effigy bowls; 2 Bell Plain jars; 1 Bell Plain lobate bottle; 4 chert bifaces ; 1 bird bone; 109 bird sternum fragments; 28 bone awls; 6 bone awl fragments; 2 bone fragments; 2 bone needles; 12 bone pins; 4 bone tool fragments; 9 repousse copper cutouts; 7 copper ear bob fragments; 15 copper ear plug fragments; 1 copper stained bone needle; 1 cortical chert flake; 1 Crow Creek Noded jar; 4 Duck River sword projectile points/knives; 1 effigy pipe; 2 Elk River projectile points/knives; 1 Flint River projectile point/knife; 1 ground galena nodule; 4 greenstone celts; 2 Guntersville projectile points/knives; 1 hammerstone/abrader; 2 Ledbetter projectile points/knives; 1 Little Bear Creek projectile point/knife; 2 Madison projectile points/knives; 2 mammal tooth beads; 2 McIntire projectile points/knives; 1 McKee Island Brushed jar; 6 McKee Island Brushed sherds; 176 Mississippi Plain sherds; 1 Mississippi Plain bottle; 1 Mississippi Plain bowl; 14 Mississippi Plain jars; 1 modified fish jaw; 2 modified shells; 2 Moundville Engraved, var. Hemphill bottles; 21 Moundville Engraved, var. Tuscaloosa bottle sherds; 1 Moundville Incised, var. Carrolton jar; 1 Moundville Incised, var. unspecified jar; 18 Moundville Incised, var. unspecified sherds; 2 mussel shells; 3 stone palettes; 20 projectile points/knives; 1 rodent mandible; 2,335 shell beads; 3 shell cups; 3 shell ear plugs; 1 Cox style shell gorget; 1 spade/spatulate celt; 1 Stanfield projectile point/knife; 551 turtle shell fragments; 2 unmodified fish jaw; 1 unmodified limestone; 1 unmodified shell; and 58 unmodified stones.

From February to May 1937, and from February to March 1938, human remains representing, at minimum, 13 individuals were removed from site 1LU64, 23 miles downstream from Florence on the Tennessee River in Lauderdale County, AL. TVA purchased the land encompassing site 1LU64 on October 28, 1936. Site 1LU64 was a Copena phase (A.D. 100-500) burial mound that was damaged by trenching in 1917. The human remains are fragmented and represent adults and children of indeterminate sex. No known individuals were identified. The 10 associated funerary objects include 2 copper beads, 6 galena nodules, 1 piece of galena ground into a discoidal, and 1 piece of red ochre.

In February 1937, human remains representing, at minimum, one individual were removed from site 1LU65, adjacent to 1LU64 in Lauderdale County, AL. TVA purchased the land encompassing site 1LU65 on October 28, 1936. A small portion of this village was excavated before inundation of the Pickwick reservoir. The human remains represent one adult of unknown sex. No known individuals were identified. No associated funerary objects are present.

From June to September 1936, human remains representing, at minimum, 109 individuals were removed from the Long Branch site, 1LU67 in Lauderdale County, AL. Excavation commenced after TVA purchased three parcels of land encompassing this site on January 11, 1935, September 16, 1935, and February 8, 1936. Site 1LU67 was located immediately adjacent to the Tennessee River. Although described as a mound, this site appears to have been created from the accumulation of discarded shell, village midden, and alluvial soils rather than an intentionally constructed earthwork. This shell midden extended to a depth of 11 feet below surface. The Long Branch site had multiple occupation including the Middle Archaic (6000-4000 B.C.), Late Archaic (4000-1000 B.C.), early Woodland (500-100 B.C.), Middle Woodland (100 B.C. to A.D. 500), Late Woodland (A.D. 500-1000), and Mississippian (A.D. 900-1500) periods. It is not possible to determine from which level of occupation the human remains originated. The human remains include adults, juveniles, children, and infants of both sexes. No known individuals were identified. The 2,330 associated funerary objects include 2 Alexander incised sherds; 1 Alexander Punctated var. Tibbee sherd; 1 antler handle; 2 antler shaft wrenches; 2 antler atlatl hook fragments; 2 Baldwin Plain sherds; 3 Bell Plain bowl rim sherds; 21 Bell Plain sherd; 2 Benton projectile points/knives; 4 chert bifaces; 1 Bluff Creek Simple Stamped sherd; 16 bone awls; 1 bone fragment; 11 bone pendants; 1 decorated bone pin; 14 chert beads; 1 Copena projectile points/knives; 9 fabric fragments; 139 Gastropod shell beads; 2 ground conch shell fragments; 1 hammerstone; 1 Jasper bead, ground; 15 Long Branch Fabric Marked sherds; 7 Mississippi Plain jar sherds; 1 Mulberry Creek Cord Marked sherd; 2 Mulberry Creek Plain sherds; 1,912 shell beads; 44 shell gorgets/pendants; 12 shell pendant fragments; 3 shell pins; 93 terrapin shell fragments; 3 unidentified bone fragments; and 1 Wright Creek Check Stamped sherd.

From January to February 1938, human remains representing, at minimum, 31 individuals were removed from the Union Hollow site, 1LU72, Lauderdale County, AL. Excavation commenced after TVA purchased the land encompassing this site on October 5, 1936. Site 1LU72 was located immediately adjacent to the Tennessee River. This shell “mound” was created from the accumulation of discarded shell, village midden, and alluvial soils rather than intentionally constructed earthworks. This shell midden extended to a depth of 10 feet below surface. Early flooding of the Pickwick reservoir abbreviated excavations at this site. The Union Hollow site had multiple occupation including the Late Archaic (4000-1000 B.C.), Early Woodland (500-100 B.C.) and Mississippian (A.D. 1200-1500) periods. The human remains include infants, children, and adults of both sexes. No known individuals were identified. The 116 associated funerary objects include 2 antler drifts/tools; 1 Baytown Plain sherd; 14 Bell Plain jar sherds; 2 bone fish hooks; 23 bone pendants; 1 Flint Creek projectile point/knife; 1 ground stone abrader; 3 ground stone celts; 1 hammerstone; 2 Long Branch Cord Marked sherds; 1 Mississippi Plain jar; 8 Mississippi Plain sherds; 10 Mississippi Plain noded rim sherds; 3 Mulberry Creek Cord Marked sherds; 2 shell ear plugs; 2 shell cup/spoon fragments; 39 turtle carapace fragments; and 1 Wheeler Check Stamped sherd.

TVA has determined that cultural affiliation between the human remains and associated funerary objects excavated from sites 1LU5, 1LU21, 1LU92, 1LU64, 1LU65, 1LU67, and 1LU72, and any present-day federally recognized tribes cannot be reasonably traced. Accordingly, these items are culturally unidentifiable, and TVA intends to transfer control of these items pursuant to 43 CFR 10.11(c).

At the time of the excavation and removal of these human remains and associated funerary objects, the land from which the human remains and associated funerary objects were removed was not the tribal land of any federally recognized Indian tribe. On March 10, 2016, TVA consulted with all federally recognized Indian tribes who are recognized as aboriginal to the area from which these Native American human remains and associated funerary objects were removed. These tribes are the Cherokee Nation, Eastern Band of Cherokee Indians, and the United Keetoowah Band of Cherokee Indians in Oklahoma. None of these Indian tribes agreed to accept control of the human remains and associated funerary objects. After further consultation with the parties that were a part of this overall consultation, TVA has decided to transfer control of the human remains and associated funerary objects to The Chickasaw Nation.

Determinations Made by the Tennessee Valley Authority

Officials of TVA have determined that:

• Pursuant to 25 U.S.C. 3001(9), the human remains described in this notice represent the physical remains of 345 individuals of Native American ancestry.

• Pursuant to 25 U.S.C. 3001(3)(A), the 6,308 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• Pursuant to 43 CFR 10.11(c)(1)(i), at the time of excavation of the human remains and associated funerary objects, the land from which the cultural items were removed was not the tribal land of any federally recognized Indian tribe.

• Pursuant to 43 CFR 10.11(c)(1)(ii), the following tribes are aboriginal to the area from which the cultural items were excavated: Cherokee Nation, Eastern Band of Cherokee Indians, and the United Keetoowah Band of Cherokee Indians in Oklahoma. None of these tribes agreed to accept control of the human remains or associated funerary objects.

• Pursuant to 43 CFR 10.11(c)(2)(i), TVA has decided to transfer control of the culturally unidentifiable human remains to The Chickasaw Nation.

• Pursuant to 43 CFR 10.11(c)(4), TVA has decided to transfer control of the culturally unidentifiable associated funerary objects to The Chickasaw Nation.

Additional Requestors and Disposition

Representatives of any federally recognized Indian tribe not identified in this notice that wish to request transfer of control of these human remains and associated funerary objects should submit a written request with information in support of the request to Dr. Thomas O. Maher, TVA, 400 West Summit Hill Drive, WT11D, Knoxville, TN 37902-1401, telephone (865) 632-7458, email tomaher@tva.gov, by October 3, 2016. After that date, if no additional requestors have come forward, transfer of control of the human remains and associated funerary objects to The Chickasaw Nation may proceed.

TVA is responsible for notifying the Alabama-Coushatta Tribe of Texas (previously listed as the Alabama-Coushatta Tribes of Texas); Alabama-Quassarte Tribal Town; Cherokee Nation; Coushatta Tribe of Louisiana; Eastern Band of Cherokee Indians; Eastern Shawnee Tribe of Oklahoma; Poarch Band of Creeks (previously listed as the Poarch Band of Creek Indians of Alabama); The Chickasaw Nation; The Choctaw Nation of Oklahoma; The Muscogee (Creek) Nation; Thlopthlocco Tribal Town; and the United Keetoowah Band of Cherokee Indians in Oklahoma that this notice has been published.

Dated: August 10, 2016.
Melanie O'Brien,
Manager, National NAGPRA Program.

[FR Doc. 2016-21002 Filed 8-31-16; 8:45 am]

BILLING CODE 4312-50-P